NATIONAL AERONAUTICS AND SPACE ADMINISTRATION

[Notice 05-108]

Public Meeting of United States Study Group 7

AGENCY: National Aeronautics and Space Administration.

ACTION: Notice of meeting.

SUMMARY: There will be a meeting of United States Study Group 7 to discuss the status of the United States Study Group 7 Working Parties and preparations for the November 2005 meeting of International Telecommunications Union Study Group 7.

DATES: The meeting will be held Tuesday, October 4, 2005 at 10 a.m.

ADDRESSES: The meeting will be held at the National Science Foundation, room 1060, located at 4201 Wilson Blvd, Arlington, VA.

FOR FURTHER INFORMATION CONTACT: Shayla Taylor, 540-659-7222.

David P. Struba,
Chairman, U.S. Study Group 7, NASA Director Spectrum Policy and Planning Space Operations Mission Directorate.

[FR Doc. 05-13069 Filed 6-30-05; 8:45 am]

BILLING CODE 7510-13-P